DEPARTMENT OF DEFENSE

Department of the Army

Performance Review Board Membership for Headquarters, U.S. Army Materiel Command

AGENCY: Department of the Army, DoD.

ACTION: Notice.

SUMMARY: Notice is given of the names of members of a Performance Review Board for the Department of the Army.

EFFECTIVE DATE: January 12, 2004.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Headquarters, U.S. Army Materiel Command are:

1. Major General John Doesburg, Commanding General, U.S. Army Research, Development and Engineering (RDE) Command, Aberdeen Proving Ground, Maryland.

2. Mr. Michael C. Schexnayder, Associate Director for Systems Missiles, Aviation and Missile RDE Center, Redstone Arsenal, Alabama.

3. Dr. Robin Buckelew, Director for Missile Guidance, Aviation and Missile RDE Center, Redstone Arsenal, Alabama.

4. Mr. Jerry Chapin, Deputy to the Commander, U.S. Army Tank-automotive & Armaments Command, Warren, Michigan.

5. Dr. James Chang, Director, Army Research Office, Research Triangle Park, North Carolina.

6. Mr. Michael A. Parker, Deputy to the Commander, U.S. Army Soldier & Biological Chemical Command, Aberdeen Proving Ground, Maryland.

Luz D. Ortiz,
Army Federal Register Liaison Officer.

[FR Doc. 04-883 Filed 1-14-04; 8:45 am]

BILLING CODE 3710-08-M